DEPARTMENT OF TRANSPORTATION

National Highway Traffic Safety Administration

[Docket No. NHTSA-2003-16356]

Extension of Comment Period on Whether Nonconforming 2002 and 2003 Ferrari 575 Passenger Cars Are Eligible for Importation

AGENCY: National Highway Traffic Safety Administration (NHTSA), DOT.

ACTION: Extension of comment period.

SUMMARY: This document announces the extension of the comment period on a petition for NHTSA to decide that 2002 and 2003 Ferrari 575 passenger cars that were not originally manufactured to comply with all applicable Federal motor vehicle safety standards are eligible for importation into the United States.

DATES: The closing date for comments on the petition is December 12, 2003.

ADDRESSES: Comments are to be submitted to: Docket Management, Room PL-401, 400 Seventh Street SW., Washington, DC 20590. Docket hours are from 9 am to 5 pm. Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787) or you may visit http://dms.dot.gov.

FOR FURTHER INFORMATION CONTACT: Coleman Sachs, Office of Vehicle Safety Compliance, NHTSA (202) 366-3151.

SUPPLEMENTARY INFORMATION: On October 28, 2003, NHTSA published a notice (at 68 FR 61549) that it had received a petition to decide that nonconforming 2002 and 2003 Ferrari 575 passenger cars are eligible for importation into the United States. The notice solicited public comments on the petition and stated that the closing date for comments is November 28, 2003.

This is to notify the public that NHTSA is extending the comment period until December 12, 2003. This extension is based on a request from Ferrari North America, Inc. (FNA), the U.S. representative of the vehicle's manufacturer, Ferrari, SpA. In requesting the extension, FNA that “the employee of Ferrari SpA who has, among other duties, principal responsibility for technical analysis of importation eligibility petitions has been traveling on company business and therefore has not yet provided FNA with the information needed by FNA to prepare comments in the proceeding.” FNA contended that the requested 2-week extension of the comment period “will not prejudice the parties or unduly delay the proceeding.”

NHTSA has granted FNA's request. All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: December 2, 2003.
Kenneth N. Weinstein,
Associate Administrator for Enforcement.

[FR Doc. 03-30279 Filed 12-4-03; 8:45 am]

BILLING CODE 4910-59-P